DEPARTMENT OF LABOR

Employment and Training Administration

[TA-W-50,313]

Mike Dent Enterprises, Burns, OR; Notice of Termination of Investigation

Pursuant to section 221 of the Trade Act of 1974, as amended, an investigation was initiated on December 12, 2002 in response to a worker petition filed by a company official on behalf of workers at Mike Dent Enterprises, Burns, Oregon.

All workers were separated from the subject firm more than one year before the date of the petition. Section 223(b) of the Act specifies that no certification may apply to any worker whose last separation occurred more than one year before the date of the petition. Consequently, further investigation in this case would serve no purpose, and the investigation has been terminated.

Signed at Washington, DC this 11th day of February 2003.
Richard Church,
Certifying Officer, Division of Trade Adjustment Assistance.

[FR Doc. 03-5555 Filed 3-7-03; 8:45 am]

BILLING CODE 4510-30-P